DEPARTMENT OF TRANSPORTATION

Federal Aviation Administration

14 CFR Part 71

[Docket No. FAA-2007-28529; Airspace Docket No. 07-ANM-12]

Modification of Class E Airspace; Tucson, AZ

AGENCY: Federal Aviation Administration (FAA), DOT.

ACTION: Final rule.

SUMMARY: This action will modify Class E airspace at Tucson, AZ. Additional controlled airspace is necessary to encompass holding patterns and intermediate segments at Tucson International Airport. The FAA is proposing this action to enhance the safety and management of Instrument Flight Rules (IFR) operations at Tucson International Airport, Tucson, AZ.

DATES: Effective Date: 0901 UTC, June 5, 2008. The Director of the Federal Register approves this incorporation by reference action under 1 CFR part 51, subject to the annual revision of FAA Order 7400.9 and publication of conforming amendments.

FOR FURTHER INFORMATION CONTACT: Richard Roberts, Federal Aviation Administration, System Support Group, Western Service Area, 1601 Lind Avenue, SW., Renton, WA, 98057; telephone (425) 203-4517.

SUPPLEMENTARY INFORMATION:

History

On August 29, 2007 the FAA published in the Federal Register a notice of proposed rulemaking to modify Class E airspace at Tucson, AZ (72 FR 49677). This action would enhance the safety and management of Instrument Flight Rules (IFR) operations at Tucson International Airport, Tucson, AZ.

Interested parties were invited to participate in this rulemaking effort by submitting written comments on the proposal to the FAA. No comments were received.

Class E airspace designations are published in paragraph 6005 of FAA Order 7400.9R signed August 15, 2007, and effective September 15, 2007, which is incorporated by reference in 14 CFR part 71.1. The Class E airspace designations listed in this document will be published subsequently in that Order.

The Rule

This action amends Title 14 Code of Federal Regulations (14 CFR) part 71 by modifying Class E airspace at Tucson International Airport, Tucson, AZ. Additional controlled airspace is necessary to encompass hold-in-lieu patterns at the LIPTE Initial Fix/Instrument Approach Fix (IF/IAF) at Tucson International Airport, Tucson, AZ and encompass intermediate segments from the ILEEN Distance Measuring Equipment (DME) fix to COPEY DME fix. The FAA is proposing this action to enhance the safety and management of IFR operations at Tucson International Airport, Tucson, AZ.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act. This rulemaking is promulgated under the authority described in Subtitle VII, Part A, Subpart I, Section 40103. Under that section, the FAA is charged with prescribing regulations to assign the use of airspace necessary to ensure the safety of aircraft and the efficient use of airspace. This regulation is within the scope of that authority as it modifies controlled airspace at Tucson International Airport, Tucson, AZ.

List of Subjects in 14 CFR Part 71

Airspace, Incorporation by reference, Navigation (air)

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E. O. 10854, 24 FR 9565, 3 CFR, 1959-1963 Comp., p. 389.

§ 71.1 [Amended]

2. The incorporation by reference in 14 CFR 71.1 of the Federal Aviation Administration Order 7400.9R, Airspace Designations and Reporting Points, signed August 15, 2007, and effective September 15, 2007 is amended as follows:

Paragraph 6005. Class E airspace areas extending upward from 700 feet or more above the surface of the earth.

* * * * *

AWP AZ E5 Tucson, AZ 2 spaces [Modified]

Tucson International Airport, AZ

(Lat. 32°06′58″ N, long. 110°56′28″ W)

Ryan Field, AZ

(Lat. 32°08′32″ N, long. 111°10′28″ W)

That airspace extending upward from 700 feet above the surface within an 8.7-mile radius of Tucson International Airport and within that airspace bounded by a line beginning at lat. 32°11′01″ N, long. 111°05′33″ W; to lat. 32°21′28″ N, long. 111°16′33″ W; to lat. 32°35′55″ N, long. 110°57′47″ W; to lat. 32°01′35″ N, long. 110°21′18″ W; to lat.31°44′6″ N, long. 110°42′30″ W; to lat.31°58′20″ N, long. 110°57′51″ W; to intercept the 8.7-mile radius southwest of the Tucson International Airport; thence clockwise via the 8.7-mile radius to the point of beginning; and that airspace within a 4.3-mile radius of Ryan Field and within 3.5 mile each side of the Ryan Field localizer course extending from the 4.3-mile radius to 7 miles west of the outer marker. That airspace extending upward from 1,200 feet above the surface bounded by a line beginning at lat. 32°33′00″ N, long. 111°45′02″ W; to lat.32°33′00″ N, long. 110°52′02″ W; thence north via long. 110°52′00″ W; to the south boundary of V-94, thence southeast via the south boundary of V-94; to long. 110°00′02″ W, thence south to lat. 31°39′00″ N; long 110°00′02″ W; to lat. 31°39′00″ N, long. 111°00′02″ W; to lat. 32°00′00″ N, long. 111°45′02″ W, to the point of origin.

* * * * *

Issued in Seattle, Washington, on February 28, 2008.
Kevin Nolan,
Acting Manager, System Support Group, Western Service Center.

[FR Doc. 08-996 Filed 3-11-08; 8:45 am]

BILLING CODE 4910-13-M